DEPARTMENT OF TRANSPORTATION

Federal Aviation Administration

Advisory Circular 33.17-1, Fire Prevention

AGENCY: Federal Aviation Administration (FAA), DOT.

ACTION: Notice of issuance of advisory circular.

SUMMARY: This notice announces the issuance of Advisory Circular (AC) 33.17-1 Fire Prevention. This AC sets forth acceptable methods of compliance that may be used to demonstrate compliance with the fire prevention requirements under Title 14 Code of Federal Regulations (14 CFR), part 33. Section 33.17 is the primary section addressed in this AC, although other sections of part 33 that address fire prevention may also be applicable. Other related parts and sections are listed in AC 20-135, Powerplant Installation and Propulsion System Component Fire Protection Methods, Standards and Criteria Appendix 1. This AC is intended to provide guidance relating to these requirements, and is considered a supplement to AC 20-135.

DATES: Advisory Circular 33.17-1 was issued by the Assistant Manager, Engine & Propeller Directorate, ANE-100 on June 28, 2002.

How To Obtain Copies: A paper copy of AC 33.17-1 may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at “http://www.faa.gov/”, at the link titled “Regulatory/Advisory” select “Advisory Circulars” then select “Regulation & Certification Advisory Circulars”

Issued in Burlington, Massachusetts, on June 28, 2002.
Francis Favara,
Assistant Manager, Engine and Propeller Directorate, Aircraft Certification Service.

[FR Doc. 02-17374 Filed 7-9-02; 8:45 am]

BILLING CODE 4910-13-M